DEPARTMENT OF HEALTH AND HUMAN SERVICES

Agency for Toxic Substances and Disease Registry

[Program Announcement 04081]

Program To Build Capacity in Alaska Native Villages to Assess Impact of Releases From Formerly Used Defense Sites; Notice of Availability of Funds-Amendment

A notice announcing the availability of fiscal year (FY) 2004 funds for cooperative agreements for Program to Build Capacity in Alaska Native Villages to Assess Impact of Releases From Formerly Used Defense Sites was published in the Federal Register, Monday, February 2, 2004, Volume 69, Number 21, pages 4970-4973. The notice is amended as follows:

This program has been cancelled.

Note: The Director, Procurement and Grants Office, Centers for Disease Control and Prevention has been delegated the authority to sign ATSDR Federal Register notices pertaining to the availability of grant and cooperative agreement funds.

Dated: February 13, 2004.
Sandra R. Manning,
Director, Procurement and Grants Office, Centers for Disease Control and Prevention.

[FR Doc. 04-3688 Filed 2-19-04; 8:45 am]

BILLING CODE 4163-70-P